DEPARTMENT OF TRANSPORTATION

Federal Aviation Administration

14 CFR Part 25

[Amendment No. 25-128]

Transport Category Airplanes, Various Technical Amendments and Corrections

AGENCY: Federal Aviation Administration (FAA), DOT.

ACTION: Final rule; technical amendment.

SUMMARY: This amendment corrects a number of errors in the safety standards for transport category airplanes. None of the changes are substantive in nature, and this amendment will not impose any additional burdens on any person affected by these regulations.

DATES: Effective Date: This amendment becomes effective May 29, 2009.

FOR FURTHER INFORMATION CONTACT: For technical questions concerning this final rule, contact: Jeff Gardlin, FAA Airframe and Cabin Safety Branch, ANM-115, Transport Airplane Directorate, Aircraft Certification Service, 1601 Lind Avenue SW., Renton, Washington 98057-3356; telephone (425) 227-2136; facsimile (425) 227-1149; e-mail: jeff.gardlin@faa.gov. For legal questions concerning this final rule, contact: Douglas Anderson, ANM-7, FAA, Office of Regional Counsel, 1601 Lind Ave. SW., Renton, WA 98057-3356 telephone (202) 267-2166; e-mail: Douglas.Anderson@faa.gov.

SUPPLEMENTARY INFORMATION:

Background

A number of unrelated errors in the safety standards for transport category airplanes have been brought to the attention of the FAA. Some are due to inadvertent omissions or other editing errors; others are simply typographical or printing errors. This document amends part 25 to correct those errors. None of the corrections are substantive in nature, and this amendment will not impose any additional burdens on any person affected by these regulations.

List of Subjects in 14 CFR Part 25

Airplanes, Aviation safety, Reporting and recordkeeping requirements.

The Amendment

In consideration of the following, the Federal Aviation Administration amends part 25 of Title 14, Code of Federal Regulations, as follows:

PART 25—AIRWORTHINESS STANDARDS: TRANSPORT CATEGORY AIRPLANES

1. The authority citation of part 25 continues to read as follows:

Authority: 49 U.S.C. 106(g), 40113, 44701, 44702 and 44704.

§ 25.812 [Amended]

2. Amend § 25.812(h), introductory text, by removing the phrase “§§ 25.810(a) and (d)” and adding the phrase “§§ 25.810(a)(1) and (d)” in its place.

§ 25.813 [Amended]

3. Amend § 25.813(b)(5) by removing the phrase “§ 25.807(d)(3)(ii)” and adding the phrase “§ 25.807(g)(9)(ii)” in its place.

Appendix F to Part 25 [Amended]

4. Amend Appendix F, part VII, paragraph (f)(1), by removing the phrase “paragraph (c)(4) or (c)(4)(i)” and adding the phrase “paragraph (c)(3)(iv)” in its place.

Issued in Washington, DC, on May 22, 2009.
Pamela Hamilton-Powell,
Director, Office of Rulemaking.

[FR Doc. E9-12435 Filed 5-28-09; 8:45 am]

BILLING CODE 4910-13-P